DEPARTMENT OF TRANSPORTATION

Federal Aviation Administration

14 CFR Part 39

[Docket No. FAA-2021-0031; Project Identifier MCAI-2020-01420-T; Amendment 39-21625; AD 2021-13-20]

RIN 2120-AA64

Airworthiness Directives; Airbus Canada Limited Partnership (Type Certificate Previously Held by C Series Aircraft Limited Partnership (CSALP); Bombardier, Inc.) Airplanes

AGENCY: Federal Aviation Administration (FAA), Department of Transportation (DOT).

ACTION: Final rule.

SUMMARY: The FAA is adopting a new airworthiness directive (AD) for certain Airbus Canada Limited Partnership Model BD-500-1A10 and BD-500-1A11 airplanes. This AD was prompted by reports of corrosion on the waste box, waste access doubler, and waste service door of the rear fuselage due to contamination from waste valve leakage. This AD requires an inspection for corrosion of the waste box, waste access doubler, and waste service door, and corrective actions if necessary, as specified in a Transport Canada Civil Aviation (TCCA) AD, which is incorporated by reference. The FAA is issuing this AD to address the unsafe condition on these products.

DATES: This AD is effective August 24, 2021.

The Director of the Federal Register approved the incorporation by reference of a certain publication listed in this AD as of August 24, 2021.

ADDRESSES: For material incorporated by reference (IBR) in this AD, contact TCCA, Transport Canada National Aircraft Certification, 159 Cleopatra Drive, Nepean, Ontario, K1A 0N5, Canada; telephone 888-663-3639; email AD-CN@tc.gc.ca; internet https://tc.canada.ca/en/aviation. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2021-0031.

Examining the AD Docket

You may examine the AD docket on the internet at https://www.regulations.gov by searching for and locating Docket No. FAA-2021-0031; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Siddeeq Bacchus, Aerospace Engineer, Mechanical Systems and Administrative Services Section, FAA, New York ACO Branch, 1600 Stewart Avenue, Suite 410, Westbury, NY 11590; telephone 516-228-7362; fax 516-794-5531; email 9-avs-nyaco-cos@faa.gov.

SUPPLEMENTARY INFORMATION:

Background

TCCA, which is the aviation authority for Canada, has issued TCCA AD CF-2020-42, issued October 16, 2020 (TCCA AD CF-2020-42) (also referred to as the Mandatory Continuing Airworthiness Information, or the MCAI), to correct an unsafe condition for certain Airbus Canada Limited Partnership Model BD-500-1A10 and BD-500-1A11 airplanes.

The FAA issued a notice of proposed rulemaking (NPRM) to amend 14 CFR part 39 by adding an AD that would apply to certain Airbus Canada Limited Partnership Model BD-500-1A10 and BD-500-1A11 airplanes. The NPRM published in the Federal Register on February 24, 2021 (86 FR 11173). The NPRM was prompted by reports of corrosion on the waste box, waste access doubler, and waste service door of the rear fuselage due to contamination from waste valve leakage. The NPRM proposed to require an inspection for corrosion of the waste box, waste access doubler, and waste service door, and corrective actions if necessary, as specified in TCCA AD CF-2020-42.

Comments

The FAA gave the public the opportunity to participate in developing this final rule. The following presents the comments received on the NPRM and the FAA's response to each comment.

Request To Require Additional Service Information

Delta Air Lines (DAL) asked that Airbus Canada Service Bulletin BD500-383004, Issue No. 001, dated January 29, 2021, also be mandated either in the proposed AD or in additional rulemaking by the FAA and TCCA. DAL stated that the proposed AD, as written, does not address the root cause of the corrosion, which is leakage from the waste disposal ball valve. DAL added that the actions specified in the proposed AD will act as an effective method of ensuring that existing corrosion is identified and addressed, but do not address the root cause of the corrosion. DAL stated that Airbus Canada Service Bulletin BD500-383004 would address that root cause by providing instructions for the retrofit of an improved valve, which resists leakage more effectively than the valve with the original configuration. DAL noted that if fluid leakage from the waste servicing system is the root cause for corrosion of the fuselage, proactive retrofit of the ball valve to the improved configuration would properly address that root cause.

The FAA does not agree with the commenter. The FAA is currently reviewing Airbus Canada Service Bulletin BD500-383004, Issue No. 001, dated January 29, 2021, and gathering more information about the new valve. After completing this review the FAA might consider further rulemaking. The FAA has not changed this AD in this regard.

Request To Clarify Exception to TCCA AD CF-2020-42

DAL asked for clarification that the exception identified in paragraph (h) of the proposed AD does not deviate from the TCCA AD. DAL stated that TCCA AD CF-2020-42 and Airbus Canada Service Bulletin BD500-536004, Issue No. 001, dated August 13, 2020, both include instructions for implementation of corrective action to documented discrepancies, and neither include any allowance to defer the corrective action beyond the maintenance opportunity in which the inspection is performed and the corrosion is documented.

The FAA disagrees that this AD does not deviate from the TCCA AD. Paragraph (h) of this AD is included as an exception to the MCAI because the TCCA AD does not explicitly state in the “Compliance” or “Corrective Actions” sections that when corrosion is found, the corrective action of corrosion repair must be done before further flight. The inclusion of paragraph (h) of this AD requires that the corrective action is done “before further flight” after detection of corrosion, as identified in the applicable service information specified in TCCA AD CF-2020-42, instead of the compliance time specified in TCCA AD CF-2020-42 for all applicable actions. The FAA has revised paragraph (h) of this AD to specify that the corrective action (corrosion repair) must be done before further flight after corrosion is detected.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

TCCA AD CF-2020-42 describes procedures for a general visual inspection for corrosion of the waste box, waste access doubler, and waste service door 146BR of the rear fuselage; application of protective coating in the waste box area; and corrective actions. The corrective actions include repair of any corrosion found. This material is reasonably available because the interested parties have access to it through their normal course of business or by the means identified in the ADDRESSES section.

Costs of Compliance

The FAA estimates that this AD affects 28 airplanes of U.S. registry. The FAA estimates the following costs to comply with this AD:

Estimated Costs for Required Actions
Labor cost | Parts cost | Cost per product | Cost on U.S. operators
8 work-hours × $85 per hour = $680 | $0 | $680 | $19,040

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-13-20 Airbus Canada Limited Partnership (Type Certificate Previously Held by C Series Aircraft Limited Partnership (CSALP); Bombardier, Inc.): Amendment 39-21625; Docket No. FAA-2021-0031; Project Identifier MCAI-2020-01420-T.

(a) Effective Date

This airworthiness directive (AD) is effective August 24, 2021.

(b) Affected ADs

None.

(c) Applicability

This AD applies to Airbus Canada Limited Partnership (type certificate previously held by C Series Aircraft Limited Partnership (CSALP); Bombardier, Inc.) Model BD-500-1A10 and BD-500-1A11 airplanes, certificated in any category, as identified in Transport Canada Civil Aviation (TCCA) AD CF-2020-42, issued October 16, 2020 (TCCA AD CF-2020-42).

(d) Subject

Air Transport Association (ATA) of America Code 53, Fuselage.

(e) Reason

This AD was prompted by reports of corrosion on the waste box, waste access doubler, and waste service door of the rear fuselage due to contamination from waste valve leakage. The FAA is issuing this AD to address this corrosion, which could lead to cracking or holes in the waste box or airplane skin, and consequent cabin pressure leakage and catastrophic structural damage of the airplane.

(f) Compliance

Comply with this AD within the compliance times specified, unless already done.

(g) Requirements

Except as specified in paragraph (h) of this AD: Comply with all required actions and compliance times specified in, and in accordance with, TCCA AD CF-2020-42.

(h) Exception to TCCA AD CF-2020-42

Where TCCA AD CF-2020-42 specifies a compliance time of “Within 14,200 flight cycles or 56 months from the aeroplane date of manufacture, as identified on the identification plate of the aeroplane” or “Within 9,900 flight cycles or 56 months from the aeroplane date of manufacture, as identified on the identification plate of the aeroplane,” depending on airplane configuration, to accomplish all applicable actions, this AD requires that corrosion repair be done before further flight after detection of corrosion, as identified in the applicable service information specified in TCCA AD CF-2020-42.

(i) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain instructions from a manufacturer, the instructions must be accomplished using a method approved by the Manager, New York ACO Branch, FAA; or TCCA; or Airbus Canada's TCCA Design Approval Organization (DAO). If approved by the DAO, the approval must include the DAO-authorized signature.

(j) Related Information

For more information about this AD, contact Siddeeq Bacchus, Aerospace Engineer, Mechanical Systems and Administrative Services Section, FAA, New York ACO Branch, 1600 Stewart Avenue, Suite 410, Westbury, NY 11590; telephone 516-228-7362; fax 516-794-5531; email 9-avs-nyaco-cos@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Transport Canada Civil Aviation (TCCA) AD CF-2020-42, issued October 16, 2020.

(ii) [Reserved]

(3) For TCCA AD CF-2020-42, contact TCCA, Transport Canada National Aircraft Certification, 159 Cleopatra Drive, Nepean, Ontario K1A 0N5, Canada; telephone 888-663-3639; email AD-CN@tc.gc.ca; internet https://tc.canada.ca/en/aviation.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2021-0031.

(5) You may view this material that is incorporated by reference at the National Archives and Records Administration (NARA). For information on the availability of this material at NARA, email fedreg.legal@nara.gov, or go to: https://www.archives.gov/federal-register/cfr/ibr-locations.html.

Issued on June 18, 2021.
Lance T. Gant,
Director, Compliance & Airworthiness Division, Aircraft Certification Service.

[FR Doc. 2021-15346 Filed 7-19-21; 8:45 am]

BILLING CODE 4910-13-P